DEPARTMENT OF HOMELAND SECURITY

U.S. Customs and Border Protection

19 CFR Part 122

[CBP Dec. 12-08]

Technical Amendment to Cuba Airport List: Addition of Recently Approved Airports

AGENCY: Customs and Border Protection, Department of Homeland Security.

ACTION: Final rule; technical amendment.

SUMMARY: This document amends the Customs and Border Protection (CBP) regulations by updating the list of airports authorized to accept aircraft traveling to or from Cuba.

DATES: Effective: April 20, 2012.

FOR FURTHER INFORMATION CONTACT: Arthur A.E. Pitts, Sr., U.S. Customs and Border Protection, Office of Field Operations, 202-344-2752.

SUPPLEMENTARY INFORMATION:

Background

Part 122, subpart O, of the CBP regulations sets forth special procedures that apply to all aircraft (except public aircraft) entering or departing the United States to or from Cuba. Prior to January 2011, the regulations required direct flights between the United States and Cuba to arrive at or depart from one of three named U.S. airports: John F. Kennedy International Airport, Los Angeles International Airport, or Miami International Airport.

In a statement issued on January 14, 2011, the President announced a series of changes to ease the restrictions on travel to and from Cuba as part of an initiative to support the Cuban people's desire to freely determine their country's future by, among other things, supporting licensed travel and intensifying people-to-people exchanges. In the statement, the President announced that additional U.S. airports able to process international flights may request CBP approval to accept direct flights to and from Cuba in accordance with procedures to be established by CBP. On January 28, 2011, CBP published a final rule in the Federal Register (76 FR 5058) that amended the CBP regulations to establish such procedures and airport eligibility criteria.

As provided in 19 CFR 122.153(b), airports meeting certain prerequisites may submit a written request to CBP requesting approval to become an airport of entry and departure for aircraft traveling to and from Cuba. Upon determination that the airport is suitable to process these flights, CBP will notify the requestor that the airport has been approved, and that it may immediately begin to accept such aircraft. For more detailed background information on the application and approval procedure and the eligibility criteria, see the January 28, 2011 final rule and 19 CFR 122.153.

List of Approved Airports

The CBP regulations also specify that for reference purposes, approved airports will be listed on the CBP Web site and reflected in updates to the list in 19 CFR 122.153(c). The current list includes the three airports that were authorized to accept aircraft traveling to or from Cuba before the publication of the January 28, 2011 final rule: John F. Kennedy International Airport, Los Angeles International Airport, and Miami International Airport. This document updates the list of airports to reflect the 16 airports that CBP has approved to accept aircraft traveling to or from Cuba, since the publication of the final rule. Those airports include:

• Hartsfield-Jackson Atlanta International Airport

• Austin-Bergstrom International Airport

• Baltimore/Washington International Thurgood Marshall Airport

• O'Hare International Airport

• Dallas/Fort Worth International Airport

• Fort Lauderdale-Hollywood International Airport

• Southwest Florida International Airport

• George Bush Intercontinental Airport

• Key West International Airport

• Louis Armstrong New Orleans International Airport

• Oakland International Airport

• Orlando International Airport

• Pittsburgh International Airport

• San Juan Luis Muñoz Marín International Airport

• Tampa International Airport

• Palm Beach International Airport

The updated list of approved airports also appears on the CBP Web site: www.cbp.gov.

Inapplicability of Public Notice and Delayed Effective Date Requirements

Because this amendment merely updates the list of airports authorized to accept aircraft traveling to or from Cuba to include airports already approved by CBP in accordance with 19 CFR 122.153 and neither imposes additional burdens on, nor takes away any existing rights or privileges from the public, pursuant to 5 U.S.C. 553(b)(B), notice and public procedure are unnecessary, and for the same reasons, pursuant to 5 U.S.C. 553(d)(3), a delayed effective date is not required.

The Regulatory Flexibility Act and Executive Order 12866

Because no notice of proposed rulemaking is required, the provisions of the Regulatory Flexibility Act (5 U.S.C. 601 et seq.) do not apply. This amendment does not meet the criteria for a ”significant regulatory action” as specified in Executive Order 12866.

Signing Authority

This final rule technical amendment is being issued in accordance with 19 CFR 0.2(a).

List of Subjects in 19 CFR Part 122

Administrative practice and procedure, Air carriers, Aircraft, Airports, Alcohol and alcoholic beverages, Cigars and cigarettes, Cuba, Customs duties and inspection, Drug traffic control, Freight, Penalties, Reporting and recordkeeping requirements, Security measures.

Amendments to Regulations

Part 122, Code of Federal Regulations (19 CFR part 122) is amended as set forth below:

PART 122—AIR COMMERCE REGULATIONS

1. The authority citation for part 122 continues to read as follows:

Authority: 5 U.S.C. 301; 19 U.S.C. 58b, 66, 1431, 1433, 1436, 1448, 1459, 1590, 1594, 1623, 1624, 1644, 1644a, 2071 note.

* * * * *

2. In § 122.153, revise paragraph (c) to read as follows:

§ 122.153 Limitations on airport of entry or departure.

* * * * *

(c) List of airports authorized to accept aircraft traveling to or from Cuba. For reference purposes, the following is a list of airports that have been authorized by CBP to accept aircraft traveling between Cuba and the United States.

Location | Name
Atlanta, Georgia | Hartsfield-Jackson Atlanta International Airport.
Austin, Texas | Austin-Bergstrom International Airport.
Baltimore, Maryland | Baltimore/Washington International Thurgood Marshall Airport.
Chicago, Illinois | O'Hare International Airport.
Dallas, Texas | Dallas/Fort Worth International Airport.
Fort Lauderdale, Florida | Fort Lauderdale-Hollywood International Airport.
Fort Myers, Florida | Southwest Florida International Airport.
Houston, Texas | George Bush Intercontinental Airport.
Jamaica, New York | John F. Kennedy International Airport.
Key West, Florida | Key West International Airport.
Los Angeles, California | Los Angeles International Airport.
Miami, Florida | Miami International Airport.
New Orleans, Louisiana | Louis Armstrong New Orleans International Airport.
Oakland, California | Oakland International Airport.
Orlando, Florida | Orlando International Airport.
Pittsburgh, Pennsylvania | Pittsburgh International Airport.
San Juan, Puerto Rico | San Juan Luis Muñoz Marín International Airport.
Tampa, Florida | Tampa International Airport.
West Palm Beach, Florida | Palm Beach International Airport.

Dated: April 10, 2012.
David V. Aguilar,
Acting Commissioner, U.S. Customs and Border Protection.

[FR Doc. 2012-9510 Filed 4-19-12; 8:45 am]

BILLING CODE 9111-14-P